DEPARTMENT OF HEALTH AND HUMAN SERVICES

Administration on Aging

Availability of Funding Opportunity Announcement

Funding Opportunity Title/Program Name: Model Approaches to Statewide Legal Assistance Systems.

Announcement Type: Initial.

Funding Opportunity Number: HHS-2006-AoA-SL-0609.

Statutory Authority: Title IV of the Older Americans Act, Public Law 106-501.

Catalog of Federal Domestic Assistance (CFDA) Number: 93.048.

Dates: The deadline date for the receipt of applications is July 24, 2006.

I. Funding Opportunity Description

This announcement seeks proposals from eligible states (as defined in Section III below) to develop model systems for incorporating low-cost legal assistance mechanisms into the statewide legal services development and delivery program. A detailed description of the funding opportunity, including the program objectives and application materials, may be obtained at http://www.aoa.gov/doingbus/fundopp/fundopp.asp or http://www.grants.gov.

II. Award Information

1. Funding Instrument Type

Cooperative Agreement. The award is a cooperative agreement because the Administration on Aging (AoA) will be substantially involved in the development and execution of the activities of the projects. The cooperative agreement will describe the technical assistance and support to be provided by the AoA project officer. The cooperative agreement will also specify project performance criteria and measures relative to the 2006 AoA Legal Assistance Program goal and objectives. The AoA project officer for these new cooperative agreements will provide technical assistance and support on grant management and implementation issues, including execution of the cooperative agreement.

The grantees and the AoA will work cooperatively to determine the priority activities to be completed by the project and develop the work plan for each year of the project. Within 45 days of the award and 45 days of each continuation award, the grantee will agree upon and adhere to a work plan that details expectations for major activities, products, and reports during the current budget period. The work plan will include a timetable for project and activity implementation, staff assignments, and other areas that require AoA consultation, review, and/or prior approval. Either the AoA or the project can propose a revision of the final work plan at any time.

The AoA will define project performance criteria and expectations, and will monitor, evaluate, and support the projects' efforts in achieving performance goals through mentoring, listserv communications, and other technical support. The AoA will assist the project leadership in understanding the strategic goals and objectives, policy perspectives, and priorities of the Assistant Secretary for Aging and the Department of Health and Human Services by sharing such information via e-mail, conference calls, briefings and other consultations. The AoA will also share information with the project about other federally sponsored projects and activities relevant to the interests of the AoA Legal Assistance Program.

2. Anticipated Total Priority Area Funding per Budget Period

The AoA intends to make available, under this program announcement, grant awards for up to four (4) cooperative agreements at a federal share of approximately $100,000 per year for a project period of up to three (3) years, contingent upon the availability of Federal funds. Grantees are required to cover 25% of the total cost of the project from non-Federal cash or in-kind assistance.

III. Eligibility Criteria and Other Requirements

1. Eligible Applicants

Awards will be made to the agency within each eligible state that currently houses (or proposes to house) the Legal Services Developer. This agency must partner with an entity experienced in providing legal services to older persons within that state through a low-cost service delivery mechanism, such as the senior legal helpline model, funded by AoA under the Title IV Legal Assistance Grants Program.

Eligible states include all those not currently receiving AoA Title IV Legal Assistance Grants initially awarded in 2005 (Connecticut, Florida, Michigan, Nebraska, New York, Pennsylvania, and Vermont). This is in keeping with AoA's goal of maximizing the number of states utilizing low-cost legal assistance mechanisms as part of their statewide legal services development and delivery program.

2. Cost Sharing or Matching

Grantees are required to provide at least 25 percent of the total program costs from non-Federal cash or in-kind resources in order to be considered for the award.

3. DUNS Number

The Office of Management and Budget requires applicants to provide a Dun and Bradstreet (D&B) Data Universal Numbering System (DUNS) number when applying for Federal grants or cooperative agreements on or after October 1, 2003. It is entered on the SF 424. It is a unique, nine-digit identification number, which provides unique identifiers of single business entities. The DUNS number is free and easy to obtain.

Organizations can receive a DUNS number at no cost by calling the dedicated toll-free DUNS Number request line at 1-866-705-5711 or by using this link: https://www.whitehouse.gov/omb/grants/duns_num_guide.pdf.

4. Intergovernmental Review

Executive Order 12372, Intergovernmental Review of Federal Programs, is not applicable to these grant applications.

IV. Application and Submission Information

All applicants are required to submit electronically through http://www.grants.gov by midnight July 24, 2006.

Exceptions to this requirement may only be made by the AoA grants management officer, Stephen Daniels on (202) 357-3464. Exceptions may only be made to allow for catastrophic events such as tornadoes, floods, etc. Applicants are responsible for mailing or hand delivering applications to AoA in sufficient time to be received by 5 p.m. Eastern Time July 24, 2006. Please note AoA is requiring applications for this announcement to be submitted electronically through http://www.grants.gov. The Grants.gov registration process can take several days. If your organization is not currently registered with http://www.grants.gov, please begin this process immediately. For assistance with http://www.grants.gov, please contact Arthur Miller at AoA's Grants.gov helpdesk at (202) 357-3438. At http://www.grants.gov, you will be able to download a copy of the application packet, complete it off-line, and then upload and submit the application via the Grants.gov Web site.

Applicants unable to submit their application via http://www.grants.gov may request permission to submit a hard copy from AoA Grants Management Officer, Stephen Daniels, (202) 357-3464, Stephen.Daniels@aoa.hhs.gov.

1. Address for Application Submission

Hard copy submissions for which approval has been requested and received (per section IV(6) of the announcement), may be mailed to the U.S. Department of Health and Human Services, Administration on Aging, Office of Grants Management, Washington, DC 20201, attn: Stephen Daniels (HHS-2006-AoA-SL-0609), or hand-delivered (in person, via messenger) to the U.S. Department of Health and Human Services, Administration on Aging, Office of Grants Management, One Massachusetts Avenue, NW., Room 4604, Washington, DC 20001, attn: Stephen Daniels (HHS-2006-AoA-SL-0609).

Applications not submitted electronically must include one original and two copies of the application. Please include a stamped self addressed postcard for acknowledgement of receipt. Instructions for electronic mailing of grant applications are available at http://www.grants.gov/.

2. Submission Dates and Times

To receive consideration, applications must be received by the deadline listed in the DATES section of this Notice.

V. Responsiveness Criteria

Each application submitted will be screened to determine whether it was received by the closing date and time. Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria: Purpose and Need for Assistance (20 points); Approach, Work Plan and Activities (30 points); Project Outcomes, Evaluation and Dissemination (30 points); and Level of Effort (20 points).

VII. Agency Contacts

Direct inquiries regarding programmatic and grant issues to:

Project Officer: U.S. Department of Health and Human Services, Administration on Aging, Washington, DC 20201, Attn: Valerie Soroka. Telephone: (202) 357-3531, e-mail: Valerie.Soroka@aoa.hhs.gov.

Grants Management Specialist: U.S. Department of Health and Human Services, Administration on Aging, Washington, DC 20201, Attn: Stephen Daniels. Telephone: (202) 357-3464, e-mail: Stephen.Daniels@aoa.hhs.gov.

Dated: May 24, 2006.
Josefina G. Carbonell,
Assistant Secretary for Aging.

[FR Doc. E6-8364 Filed 5-30-06; 8:45 am]

BILLING CODE 4154-01-P